DEPARTMENT OF HEALTH AND HUMAN SERVICES

National Institute for Occupational Safety and Health; Notice of Public Input Opportunity

AGENCY: National Institute for Occupational Safety and Health (NIOSH), Department of Health and Human Services (HHS).

SUMMARY: The National Institute for Occupational Safety and Health (NIOSH) announces the following availability of opportunity for the public to provide input regarding the draft document, “Explosion Pressure Design Criteria for New Seals in U.S. Mines.”

NIOSH is the Federal agency responsible for conducting research and making recommendations for the prevention of occupational injuries and illnesses, including those occurring in the mining industry. Federal Mine Safety and Health Act, 30 U.S.C. 951.

Seals are dam-like structures constructed in underground coal mines throughout the U.S. to isolate abandoned mining panels or groups of panels from the active workings. Historically, mining regulations required seals to withstand a 140 kPa (20 psi) explosion pressure; however, the 2006 MINER Act requires MSHA to increase this design standard by the end of 2007. This report provides a sound scientific and engineering justification to recommend a three-tiered explosion pressure design criteria for new seals in coal mines in response to the MINER Act. Much of the information contained in this report also applies to existing seals.

A copy of the draft document can be found at: http://www.cdc.gov/niosh/review/public/mineseal/.

Comments should be submitted to the NIOSH Docket Office, Robert A. Taft Laboratories, 4676 Columbia Parkway, M/S C-34, Cincinnati, OH 45226, telephone 513/533-8450, fax 513/533-8285, nioshdocket@cdc.gov. Comments may also be submitted directly through the Web site http://www.cdc.gov/niosh/review/public/mineseal/comments.html.

The document will remain available for comment until March 12, 2007. Comments should reference docket number NIOSH-100 in the subject heading.

All information received in response to this notice will be available for public examination and copying at the NIOSH Docket Office, Room 111, 4676 Columbia Parkway, Cincinnati, Ohio 45226.

FOR FURTHER INFORMATION CONTACT: Jeffery Kohler, PhD, NIOSH Associate Director for Mining and Construction, 626 Cochrans Mill Road, Pittsburgh, PA 15236, 412-386-6544.

John Howard,
Director, National Institute for Occupational Safety and Health.

[FR Doc. 07-1119 Filed 3-8-07; 8:45 am]

BILLING CODE 4160-17-M